DEPARTMENT OF JUSTICE

Office of Justice Programs

[OJP (OJJDP) Docket No. 1630]

Establishment of the Attorney General's Advisory Committee of the Task Force on American Indian/Alaska Native Children Exposed to Violence

AGENCY: Office of Juvenile Justice and Delinquency Prevention (OJJDP), DOJ.

ACTION: Notice of establishment of a federal advisory committee.

SUMMARY: Pursuant to the Federal Advisory Committee Act, as amended (5 U.S.C. Appendix 2), the Department of Justice announces the establishment of the Advisory Committee of the Attorney General's Task Force on American Indian/Alaska Native Children Exposed to Violence (hereinafter, the “AI/AN Advisory Committee”). The AI/AN Advisory Committee will advise the Attorney General on a broad array of issues relating to addressing the problem of AI/AN children exposed to violence in the United States.

FOR FURTHER INFORMATION CONTACT: Jim Antal, Designated Federal Officer, AI/AN Advisory Committee at (202) 514-1289, or by email at james.antal@usdoj.gov.

ADDRESSES: All questions should be submitted to the Designated Federal Officer, Advisory Committee of the Attorney General's Task Force on American Indian/Alaska Native Children Exposed to Violence, Office of Juvenile Justice and Delinquency Prevention, Room 5312, 810 Seventh Street NW., Washington, DC 20531. Federal Express, Airborne, or UPS, mail delivery should be addressed to the same as above.

SUPPLEMENTARY INFORMATION:

I. Background and Authority

Pursuant to the Federal Advisory Committee Act, as amended (5 U.S.C. Appendix 2), the Department of Justice announces the establishment of the AI/AN Advisory Committee. The AI/AN Advisory Committee will advise the Attorney General on a broad array of issues relating to addressing the problem of AI/AN children exposed to violence in the United States. The AI/AN Advisory Committee is necessary and in the public interest. The duration of the AI/AN Advisory Committee is one year unless renewed by the Attorney General. The Committee will terminate on December 31, 2014. It is anticipated that the first meeting of the AI/AN Task Force Advisory Committee will occur after October 1, 2013.

Establishment of the AI/AN Advisory Committee implements a recommendation from the Attorney General's National Task Force on Children Exposed to Violence. The AI/AN Advisory Committee is governed by the Federal Advisory Committee Act (5 U.S.C. Appendix 2), which sets forth standards for the formation and use of advisory committees. The AI/AN Advisory Committee shall advise the Attorney General on the pervasive problems associated with AI/AN children's exposure to violence, and submit a final written report to the Attorney General with policy recommendations to address these issues. The AI/AN Advisory Committee shall conduct up to 4 public hearings and 6 listening sessions to explore ways to improve the identification, screening, assessment, and treatment of AI/AN children traumatized by violence. It will also identify ways AI/AN communities can overcome the impact of violence, including consultation with AI/AN youth. The AI/AN Advisory Committee will examine the needs of AI/AN children living in urban or rural settings outside of reservations and villages and pay special attention to issues of trauma that AI/AN children who have been convicted and sentenced to incarceration in the state, tribal and federal judicial systems may experience.

II. Structure

The AI/AN Advisory Committee shall consist of up to 13 members, including the Chair. Members of the Advisory Committee shall be chosen to ensure objectivity, professional expertise, and balance. The members and chair shall be selected from a cross section of experts who are knowledgeable about issues relating to AI/AN children's exposure to violence. Members will include current and former elected officials, practitioners, child and family advocates, licensed clinicians, and other subject matter experts. Members will be appointed by the Attorney General. Members shall be invited to serve for the full term of the Advisory Committee (through October 31, 2014). The four (4) public hearings shall be held in locations identified by OJJDP and all other meetings shall be held at the call of the Designated Federal Officer who shall approve the agenda and shall be present at all meetings. A vacancy on the AI/AN Advisory Committee shall be filled in the manner in which the original appointment was made and shall be subject to any conditions that applied with respect to the original appointment. An individual chosen to fill a vacancy shall be appointed for the remainder of the term of the member replaced. The vacancy shall not affect the power of the remaining members to execute the duties of the AI/AN Advisory Committee. All members of the AI/AN Advisory Committee shall adhere to the conflict of interest rules applicable to Special Government Employees as such employees are defined in 18 U.S.C. 202(a). These rules include relevant provisions in 18 U.S.C. related to criminal activity, Standards of Ethical Conduct for Employees of the Executive Branch (5 CFR part 2635), and Executive Order 12674 (as modified by Executive Order 12731). Management and support services shall be provided by the Designated Federal Officer, OJJDP, DOJ.

Janet Chiancone,
Associate Administrator for Budget and Administration, Office of Juvenile Justice and Delinquency Prevention, Office of Justice Programs.

[FR Doc. 2013-21597 Filed 9-4-13; 8:45 am]

BILLING CODE 4410-18-P